NATIONAL CREDIT UNION ADMINISTRATION

12 CFR Part 701

RIN 3133-AF81

Chartering and Field of Membership for Federal Credit Unions—Interpretive Rulings and Policy Statements

AGENCY: National Credit Union Administration (NCUA).

ACTION: Proposed rule.

SUMMARY: The NCUA Board proposes to rescind its Interpretative Ruling and Policy Statement 08-2 (IRPS 08-2). Rescinding IRPS 08-2 would ease the compliance burden on Federal credit unions (FCUs) by limiting the number of sources that FCUs must check to ensure compliance with applicable chartering and field of membership (FOM) requirements.

DATES: Comments must be received on or before March 16, 2026.

ADDRESSES: Comments may be submitted in one of the following ways. (Please send comments by one method only):

• Federal eRulemaking Portal: https://www.regulations.gov/. The docket number for the proposed IRPS recission is NCUA-2026-0035. Follow the “Submit a comment” instructions. If you are reading this document on federalregister.gov, you may use the green “SUBMIT A PUBLIC COMMENT” button beneath this rulemaking's title to submit a comment to the regulations.gov docket. A plain language summary of the proposed recission is also available on the docket website.

• Mail: Address to Melane Conyers-Ausbrooks, Secretary of the Board, National Credit Union Administration, 1775 Duke Street, Alexandria, Virginia 22314-3428.

• Hand Delivery/Courier: Same as mailing address.

Mailed and hand-delivered comments must be received by the close of the comment period.

Public Inspection: Please follow the search instructions on https://www.regulations.gov to view the public comments. Do not include any personally identifiable information (such as name, address, or other contact information) or confidential business information that you do not want publicly disclosed. All comments are public records; they are publicly displayed exactly as received and will not be deleted, modified, or redacted. Comments may be submitted anonymously. If you are unable to access public comments on the internet, you may contact the NCUA for alternative access by calling (703) 518-6540 or emailing OGCMail@ncua.gov.

FOR FURTHER INFORMATION CONTACT: Keisha Brooks, Attorney-Advisor, Office of General Counsel, at (703) 518-6540 or at 1775 Duke Street, Alexandria, VA 22314.

SUPPLEMENTARY INFORMATION:

I. Introduction

A. Background

Since 1979, the NCUA Board (Board) has issued interpretive rulings and policy statements (IRPS) to address various generally applicable interpretive and policy matters in the Federal Register. The first NCUA IRPS was published in April 1979 to set forth the agency's policy on how existing credit union service corporations could comply with the NCUA's new credit union service organizations regulation.¹ The topics covered by IRPS have ranged from interpretations on FCU share accounts to guidelines for compliance with the federal Bank Bribery Act. In issuing IRPS, the Board has often, but not always, used notice-and-comment procedures comparable to those it uses for codified regulations. While the IRPS are not codified in the Code of Federal Regulations (CFR), the NCUA does make the currently effective IRPS available on its public website at https://ncua.gov/regulation-supervision/rules-regulations/interpretive-rulings-policy-statements.

¹ 44 FR 21762 (Apr. 12, 1979).

B. Legal Authority

Under the Federal Credit Union Act (the FCU Act), the NCUA is the chartering and supervisory authority for FCUs and the Federal supervisory authority for federally insured credit unions (FICUs).² The FCU Act grants the Board broad general rulemaking authority over FCUs and to govern their chartering and FOM within the confines of the FCU Act.³ Section 120 of the FCU Act is a general grant of regulatory authority and authorizes the NCUA Board to prescribe rules and regulations for the administration of the FCU Act.⁴

² 12 U.S.C. 1752-1775.

³ 12 U.S.C. 1751, 1766(a), 1787(b)(1), 1789(a)(11).

⁴ 12 U.S.C. 1766(a).

The NCUA Board is issuing this proposed rule pursuant to its rulemaking authority under Section 109 of the FCU Act.⁵ Section 109 of the FCU Act establishes the chartering and FOM framework for FCUs.⁶ Section 109(d)(3) directs the Board to issue guidelines or regulations, after notice and opportunity for comment, setting forth the criteria that the Board will apply in determining under this subsection whether or not an additional group may be included within the FOM category of an existing multiple common bond FCU.⁷ Sections 109(a) and 109(f)(2)(E) reference more general rulemaking authority with respect to associational groups and FCU FOMs.⁸ Pursuant to its authority under the FCU Act, the Board implements these statutory requirements through its Chartering and Field of Membership Manual, incorporated as Appendix B to part 701 of its regulations (Chartering Manual).⁹

⁵ 12 U.S.C. 1751 et seq.

⁶ 12 U.S.C. 1753(5), 1754, 1759.

⁷ 12 U.S.C. 1759.

⁸ 12 U.S.C. 1759.

⁹ 12 CFR part 701, App. B. The Chartering Manual addresses all aspects of chartering FCUs. In that respect, it is like the regulations of the Office of the Comptroller of the Currency applicable to the chartering of national banks or federal savings associations. 12 CFR part 5.

II. Proposed Rule

In 1989, the Board issued its Chartering and Field of Membership Policy (IRPS 89-1), which consolidated FOM guidance.¹⁰ The Board also incorporated IRPS 89-1 by reference into § 701.1 of the NCUA's regulations.¹¹ Over the years, the Board periodically updated the Chartering Manual through IRPS and amended § 701.1 to reference the updated IRPS.¹² While copies of the IRPS were available to the public, the text of the IRPS did not appear in the CFR.¹³

¹⁰ 54 FR 31165 (July 27, 1989).

¹¹ 12 CFR 701.1.

¹² See IRPS 99-1, 63 FR 71998 (Dec. 30, 1998), as amended by IRPS 00-1, 65 FR 64512 (October 27, 2000) and IRPS 02-2, 67 FR 20013 (Apr. 24, 2002).

¹³ See e.g., IRPS 03-1, 68 FR 18334 (Apr. 15, 2003), as amended by IRPS 06-1, 71 FR 36667 (June 28, 2006).

In 2008, after notice and consideration of public comment, the Board issued a final rule publishing IRPS 08-2 as Appendix B to part 701.¹⁴ In 2010, the Board amended § 701.1 to remove references to IRPS 08-2 and establish Appendix B as the Chartering Manual.¹⁵ Accordingly, the Chartering Manual (as published in Appendix B to part 701) sets forth the NCUA's current FOM policies and procedures.¹⁶ Because the current FOM rules are stated in the Chartering Manual, IRPS 08-2 is no longer necessary.

¹⁴ 73 FR 73392, 73301 (Dec. 2, 2008).

¹⁵ 75 FR 36263 (June 25, 2010).

¹⁶ See 12 CFR part 701, App. B.

The Board proposes to rescind IRPS 08-2. In the 2008 final rule, the Board updated and clarified the NCUA's operational policies for serving “underserved areas.” ¹⁷ The current requirements for service to underserved areas are stated in Chapter 3 of the Chartering Manual.¹⁸ This proposed recission would not add, remove, clarify, or otherwise change the substantive requirements already established in the FCU Act and the Chartering Manual.

¹⁷ 73 FR 73392 (Dec. 2, 2008).

¹⁸ See 12 CFR part 701, App. B. Ch. 3, § III.

The NCUA invites the public to review IRPS 08-2 and solicits comment on any issue, concern, or suggestion that the public may have regarding the proposed rescission. The NCUA seeks comments on issues relevant to the proposed rescission. A copy of IRPS 08-2 is available to all FICUs on the NCUA's public website, therefore the IRPS has not been set out in full text in this proposal.¹⁹

¹⁹ NCUA, Interpretive Rulings and Policy Statements, https://ncua.gov/regulation-supervision/rules-regulations/interpretive-rulings-policy-statements (page last visited October 1, 2025).

III. Regulatory Procedures

A. Providing Accountability Through Transparency Act of 2023

The Providing Accountability Through Transparency Act of 2023 (5 U.S.C. 553(b)(4)) (Act) requires that a notice of proposed rulemaking include the internet address of a summary of not more than 100 words in length of a proposed rule, in plain language, that shall be posted on the internet website under section 206(d) of the E-Government Act of 2002 (44 U.S.C. 3501 note) (commonly known as regulations.gov). The Act, under its terms, applies to notices of proposed rulemaking and does not expressly include other types of documents that the Board publishes voluntarily for public comment, such as notices and interim-final rules that request comment despite invoking “good cause” to forgo such notice and public procedure. The Board, however, has elected to address the Act's requirement in these types of documents in the interests of administrative consistency and transparency.

In summary, the Board proposes to rescind IRPS 08-2. Rescinding IRPS 08-2 would ease the compliance burden on FCUs by limiting the number of sources that FCUs must check to ensure compliance with applicable chartering and FOM requirements.

The proposal and the required summary can be found at https://www.regulations.gov.

B. Executive Orders 12866, 13563, and 14192

Pursuant to Executive Order 12866 (“Regulatory Planning and Review”), as amended by Executive Order 14215, a determination must be made whether a regulatory action is significant and therefore subject to review by the Office of Management and Budget (OMB) in accordance with the requirements of the Executive Order.²⁰ Executive Order 13563 (“Improving Regulation and Regulatory Review”) supplements and reaffirms the principles, structures, and definitions governing contemporary regulatory review established in Executive Order 12866.²¹ This proposed rule was drafted and reviewed in accordance with Executive Order 12866 and Executive Order 13563. OMB has determined that this proposed rule is not a “significant regulatory action” as defined in section 3(f)(1) of Executive Order 12866. Further, the proposal is consistent with Executive Order 13563. The rescission should reduce confusion by focusing FCUs principally on applicable statutes and codified regulations.

²⁰ 58 FR 51735 (Oct. 4, 1993).

²¹ 76 FR 3821 (Jan.21, 2011).

Executive Order 14192 (“Unleashing Prosperity Through Deregulation”) requires that any new incremental costs associated with new regulations shall, to the extent permitted by law, be offset by the elimination of existing costs associated with at least 10 prior regulations.²² This proposed rule is expected to be a deregulatory action for purposes of Executive Order 14192.

²² 90 FR 9065 (Feb. 6, 2025).

C. The Regulatory Flexibility Act

The Regulatory Flexibility Act ²³ generally requires an agency to conduct a regulatory flexibility analysis of any rule subject to notice and comment rulemaking requirements, unless the agency certifies that the rule will not have a significant economic impact on a substantial number of small entities. If the agency makes such a certification, it shall publish the certification at the time of publication of either the proposed rule or the final rule, along with a statement providing the factual basis for such certification.²⁴ For purposes of this analysis, the NCUA considers small credit unions to be those having under $100 million in assets.²⁵ The Board fully considered the potential economic impacts of the regulatory amendments on small credit unions.

²³ 5 U.S.C. 601 et seq.

²⁴ 5 U.S.C. 605(b).

²⁵ 80 FR 57512 (Sept. 24, 2015).

The proposed recission is intended to ease the compliance burden on FCUs by limiting the number of sources that FCUs of all sizes must check to ensure compliance with laws and regulations. The rescission should also reduce confusion by allowing FCUs to focus on applicable statutes and codified regulations. The proposed recission would not impose any new requirements that would result in FCUs (irrespective of size) incurring an economic cost. To the extent the proposed recission has any economic impact, it will be indirect by reducing the staff time and other resources FCUs currently devote to checking potentially duplicative sources to ensure compliance with existing requirements codified in the Chartering Manual.

Accordingly, the NCUA certifies the proposed rule would not have a significant economic impact on a substantial number of small credit unions.

D. Paperwork Reduction Act

The Paperwork Reduction Act of 1995 (PRA) generally provides that an agency may not conduct or sponsor, and not withstanding any other provision of law, a person is not required to respond to, a collection of information, unless it displays a currently valid Office of Management and Budget (OMB) control number.

The PRA applies to rulemakings in which an agency creates a new or amends existing information collection requirements. For purposes of the PRA, an information-collection requirement may take the form of a reporting, recordkeeping, or a third-party disclosure requirement. The NCUA has determined that the changes in the IRPS do not create a new information collection or revise an existing information collection as defined by the PRA.

E. Executive Order 13132 on Federalism

Executive Order 13132 encourages certain agencies to consider the impact of their actions on state and local interests. The NCUA, an agency as defined in 44 U.S.C. 3502(5), voluntarily complies with the executive order to adhere to fundamental federalism principles. This proposed rescission would only affect FCUs. The NCUA expects that any effect on states or on the distribution of power and responsibilities among the various levels of government will be minor. The proposed rescission would clarify the existing regulations and guidance applicable solely to FCUs and is not intended to affect the division of responsibilities between the NCUA and state regulatory authorities with oversight of federally insured, state-chartered credit unions. The rulemaking would therefore not have direct effect on the states, the relationship between the national government and the states, or on the distribution of power and responsibilities among the various levels of government.

F. Assessment of Federal Regulations and Policies on Families

The NCUA has determined that this proposed rule would not affect family well-being within the meaning of section 654 of the Treasury and General Government Appropriations Act, 1999.²⁶ The proposed recission relates to the chartering and FOM requirements for FCUs, and any effect on family well-being is expected to be indirect.

²⁶ Public Law 105-277, 112 Stat. 2681 (1998).

List of Subjects in 12 CFR Part 701

Advertising, Aged, Civil rights, Credit, Credit unions, Fair housing, Individuals with disabilities, Insurance, Marital status discrimination, Mortgages, Religious discrimination, Reporting and recordkeeping requirements, Sex discrimination, Signs and symbols, Surety bonds.

By the National Credit Union Administration Board, this 9th day of January, 2026.
Melane Conyers-Ausbrooks,
Secretary of the Board.

[FR Doc. 2026-00592 Filed 1-13-26; 8:45 am]

BILLING CODE P